DEPARTMENT OF THE INTERIOR

National Park Service

[N6934; NPS-WASO-NAGPRA-NPS0042040; PPWOCRADN0-PCU00RP14.R50000]

Notice of Intended Repatriation: Fowler Museum at UCLA, Los Angeles, CA

AGENCY: National Park Service, Interior.

ACTION: Notice.

SUMMARY: In accordance with the Native American Graves Protection and Repatriation Act (NAGPRA), the Fowler Museum at UCLA intends to repatriate certain cultural items that meet the definition of unassociated funerary objects, sacred objects, and/or objects of cultural patrimony and that have a cultural affiliation with the Indian Tribes or Native Hawaiian organizations in this notice.

DATES: Repatriation of the cultural items in this notice may occur on or after March 25, 2026.

ADDRESSES: Send additional, written requests for repatriation of the cultural items in this notice to Allison Fischer-Olson, Fowler Museum at UCLA, Box 951549, Los Angeles, CA 90095-1549, email afischerolson@arts.ucla.edu.

SUPPLEMENTARY INFORMATION: This notice is published as part of the National Park Service's administrative responsibilities under NAGPRA. The determinations in this notice are the sole responsibility of the Fowler Museum at UCLA, and additional information on the determinations in this notice, including the results of consultation, can be found in the summary or related records. The National Park Service is not responsible for the determinations in this notice.

Abstract of Information Available

A total of 216 lots of cultural items have been requested for repatriation.

The five lots of objects of cultural patrimony are a projectile point fragment, projectile point, shell bead, and abalone shell fragments. These cultural items were removed from the surface of site KN-2, located in Kern County, CA, prior to 1953 by an unknown collector. They were received by the Fowler Museum at UCLA prior to October 1953 and comprise Accession 81. Treatment history of these items is unknown. In consultation with the Tejon Indian Tribe, these items were identified as culturally affiliated with the Tribe and were removed from their ancestral territory.

The 33 lots of objects of cultural patrimony are chipped stone artifacts, lithic flakes, shell beads, and a shell fragment. These cultural items were removed from the surface of site KN-61, located in Kern County, CA, circa 1950 by Georgiana Guthrie, a UCLA Department of Anthropology graduate student. They were received by the Fowler Museum at UCLA prior to October 1953 and comprise Accession 82. Treatment history of these items is unknown. In consultation with the Tejon Indian Tribe, these items were identified as culturally affiliated with the Tribe and were removed from their ancestral territory.

The one lot of objects of cultural patrimony is a sandstone mortar fragment. This cultural item was removed from the surface near Pleito Creek in Kern County, CA. The exact collection date and collector are unknown, but the item was likely collected prior to 1952 and received by the Fowler Museum at UCLA prior to October 1953, comprising Accession 88. Treatment history of the item is unknown. In consultation with the Tejon Indian Tribe, this item was identified as culturally affiliated with the Tribe and was removed from one of the most important locations within their ancestral territory.

The three lots of objects of cultural patrimony are ceramic sherds, a projectile point, and a china fragment. These cultural items were removed from the surface of CA-KER-197, located in the Sage Springs/Sage Canyon area of Kern County, CA, in October 1953 by Clement W. Meighan. The cultural items removed from this site were received by the Fowler Museum at UCLA in October 1953 and comprise Accession 109. Treatment history of these items is unknown. In consultation with the Tejon Indian Tribe, these items were identified as culturally affiliated with the Tribe and were removed from their ancestral territory.

The seven lots of objects of cultural patrimony are ceramic sherds, lithic flakes, and a leaf-shaped point. These cultural items were removed from the surface of a site in the vicinity of Phillips Ranch in Sand Canyon, Kern County, CA (likely CA-KER-769), in October 1955 by E.V. Winans and M. Kowta. They were received by the Fowler Museum at UCLA on January 19, 1956, and comprise Accession 127. Treatment history of these items is unknown. In consultation with the Tejon Indian Tribe, these items were identified as culturally affiliated with the Tribe and were removed from their ancestral territory near one of the most well-known and protected Indigenous state parks, Tomo-Kahni.

The two lots of objects of cultural patrimony are a ceramic sherd and a flake scraper. These cultural items were removed from the surface of CA-KER-199, located in Kern County, CA, on April 30, 1954, by Frank Davis. They were received by the Fowler Museum at UCLA on May 26, 1955, and comprise Accession 149. Treatment history of these items is unknown. In consultation with the Tejon Indian Tribe, these items were identified as culturally affiliated with the Tribe and were removed from their ancestral territory.

The 43 lots of objects of cultural patrimony are chipped stone artifacts, groundstone artifacts, lithic flakes, faunal bone, stone fragments, glass fragments, a china fragment, metal fragments, shell fragments, charcoal fragments, seeds, and organic fragments. These cultural items were removed during test excavations at CA-KER-312, located near Cyprus Creek in Kern County, CA, in 1973 by Jon Ericson. They were received by the Fowler Museum at UCLA on August 8, 1973, and comprise Accession 194. Treatment history of these items is unknown. In consultation with the Tejon Indian Tribe, these items were identified as culturally affiliated with the Tribe and were removed from a well-known village site within their ancestral territory.

The 60 lots of unassociated funerary objects are ceramic sherds, chipped stone artifacts, groundstone artifacts, worked lithic flakes, lithic flakes, faunal bone, an iron rail spike, a polished stone pebble, and granite pitted stones. These cultural items were removed from various locations in the Upper Kern River area of Kern County, CA, including CA-KER-41, Goat Canyon/Goat Canyon Ranch, Scovern Hot Springs/Kern River Drainage, Lake Isabella area/So. Fork Drainage, Erskine Creek Ranch, and other unknown locations (likely also Erskine Creek Ranch). These items were collected circa 1963 (possibly by Archaeological Survey staff) and were donated by Dorothy Griffin (Los Angeles City College). They were received by the Fowler Museum at UCLA prior to November 1968 and comprise Accession 546. Treatment history of these items is unknown. In consultation with the Tejon Indian Tribe, these items were identified as culturally affiliated with the Tribe and were removed from locations within their ancestral territory that are associated with a known burial site, CA-KER-41. During consultations in 2025, the Santa Rosa Rancheria Tachi Yokut Tribe also identified these items as having been removed from locations within Tachi Yokut territory.

The 20 lots of objects of cultural patrimony are lithic flakes, retouched flakes, chipped stone artifacts, and a glass trade bead. These cultural items were removed from the surface of various sites in Horse Canyon, Kern County, CA, including CA-KER-268, CA-KER-269, CA-KER-270, CA-KER-271, and CA-KER-272. They were collected in September 1969 by Sam Mayhew and Gary Stickel and were received by the Fowler Museum at UCLA on September 16, 1969, forming Accession 561. Treatment history of these items is unknown. In consultation with the Tejon Indian Tribe, these items were identified as culturally affiliated with the Tribe and were removed from a well-known Indigenous travel route in an area with a high concentration of sites within their ancestral territory.

The nine lots of objects of cultural patrimony are chipped stone artifacts. These cultural items were removed from the surface of various sites in Kern County, CA, including CA-KER-15 and others with unknown trinomials. They were collected on various dates from 1964 to 1969 by Alex Apostolides and were received by the Fowler Museum at UCLA on April 24, 1978, forming a portion of Accession 586. The remainder of Accession 586 is under the legal control of one or more Federal agencies and is not reflected in this notice. Treatment history of these items is unknown. In consultation with the Tejon Indian Tribe, these items were identified as culturally affiliated with the Tribe and were removed from well-known village sites near Lake Isabella in their ancestral territory.

The 32 lots of objects of cultural patrimony are lithic flakes and shatter, utilized flakes, ceramic sherds, chipped stone artifacts, and groundstone artifacts. These cultural items were removed from the surface of various sites in Kern County, CA, including CA-KER-1, CA-KER-1682, CA-KER-15, and CA-KER-690. They were collected in December 1983 by Brian Dillon and were received by the Fowler Museum at UCLA on October 9, 1984, forming a portion of Accession 661. The remainder of Accession 661 is under the legal control of one or more Federal agencies and is not reflected in this notice. Treatment history of these items is unknown. In consultation with the Tejon Indian Tribe, these items were identified as culturally affiliated with the Tribe and were removed from sites within their ancestral territory.

The one lot of objects of cultural patrimony includes miscellaneous fragments of reeds, cut twigs or possible arrow shafts, shells, and basketry. These cultural items were found in the museum's collections in April 1977 and given accession number X77.23. A note on the original packaging material stated that these items were removed from a test pit in a rock shelter in Pleito Canyon, CA, on December 2, 1962. It is unclear when the items originally arrived at the Fowler Museum at UCLA. Treatment history of these items is unknown. In consultation with the Tejon Indian Tribe, these items were identified as culturally affiliated with the Tribe and were removed from one of the most important locations within their ancestral territory.

Determinations

The Fowler Museum at UCLA has determined that:

• The 60 lots of unassociated funerary objects described in this notice are reasonably believed to have been placed intentionally with or near human remains, and are connected, either at the time of death or later as part of the death rite or ceremony of a Native American culture according to the Native American traditional knowledge of a lineal descendant, Indian Tribe, or Native Hawaiian organization. The unassociated funerary objects have been identified by a preponderance of the evidence as related to human remains, specific individuals, or families, or removed from a specific burial site or burial area of an individual or individuals with cultural affiliation to an Indian Tribe or Native Hawaiian organization.

• The 156 lots of objects of cultural patrimony described in this notice have ongoing historical, traditional, or cultural importance central to the Native American group, including any constituent sub-group (such as a band, clan, lineage, ceremonial society, or other subdivision), according to the Native American traditional knowledge of an Indian Tribe or Native Hawaiian organization.

• There is a connection between the cultural items described in this notice and the Tejon Indian Tribe.

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after March 25, 2026. If competing requests for repatriation are received, the Fowler Museum at UCLA must determine the most appropriate requestor prior to repatriation. Requests for joint repatriation of the cultural items are considered a single request and not competing requests. The Fowler Museum at UCLA is responsible for sending a copy of this notice to the Indian Tribes and Native Hawaiian organizations identified in this notice and to any other consulting parties.

Authority: Native American Graves Protection and Repatriation Act, 25 U.S.C. 3004 and the implementing regulations, 43 CFR 10.9.

Dated: February 13, 2026.
Melanie O'Brien,
Manager, National NAGPRA Program.

[FR Doc. 2026-03558 Filed 2-20-26; 8:45 am]

BILLING CODE 4312-52-P